DEPARTMENT OF LABOR

Employment and Training Administration

[TA-W-56,277]

Glenshaw Glass Company; Glenshaw, PA; Notice of Negative Determination Regarding Application for Reconsideration

By application of March 9, 2005, United Steel Workers of American, District 10, requested administrative reconsideration of the Department's negative determination regarding eligibility for workers and former workers of the subject firm to apply for Trade Adjustment Assistance (TAA). The termination notice applicable to workers of Glenshaw Glass Company, Glenshaw, Pennsylvania was signed on January 28, 2005, and published in the Federal Register on February 23, 2005 (70 FR 8828).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Glenshaw Glass Company, Glenshaw, Pennsylvania engaged in the maintenance and repair of mold equipment used in the production of glass containers. The petition was terminated due to the fact, that no new information or change in circumstances was evident which would result in a reversal of the Department's previous negative determination (TA-W-55,898). The TA-W-55,898 petition was filed by the production workers of the subject firm engaged in manufacturing of glass containers. The petition TA-W-55,898 was denied because the “contributed importantly” group eligibility requirement of Section 222 of the Trade Act of 1974, as amended, was not met. The “contributed importantly” test is generally demonstrated through a survey of customers of the workers' firm. The survey revealed that the major declining customers did not increase their imports of glass containers during the relevant time period. The subject firm did not import glass containers in the relevant period nor did it shift production to a foreign country.

In the request for reconsideration, the petitioner contends that the Department erred in establishing the worker group under a new petition. The petitioner further states that the group of employees which was denied TAA under petition TA-W-55,898 was not engaged in the same job duties as the group of workers petitioning under TA-W-56,277, thus a new investigation should have been performed regarding the new petitioning group of workers.

The original investigation did reveal that the petitioning group of workers was engaged in the maintenance and repair of mold equipment. However, this activity is not considered production of an article within the meaning of Section 222 of the Trade Act. Therefore, the subject group of workers can not be eligible for TAA on its own, based on the fact, that workers do not produce an article. However, it was determined that the petitioning service workers supported production of glass containers at the subject firm and could be considered eligible for TAA as directly-impacted workers in support of production of glass containers at Glenshaw Glass Company, Glenshaw, Pennsylvania. If production workers were found to be certifiable for TAA during the relevant period, service workers in support of production at an affiliated facility would be determined eligible for TAA as well. Due to the fact that Glenshaw Glass Company, Glenshaw, Pennsylvania was investigated previously and denied of TAA (TA-W-55,898) and no new information was discovered in the second investigation the petition was terminated.

The petitioner further alleges that the subject firm lost its business due to its major customers importing like or directly competitive products.

The customers of the subject firm were surveyed by the Department during the original investigation. A review of the surveys confirmed no increase in import of glass containers during the relevant period.

The petitioner further states that the subject firm imported mold equipment which is used to produce glass containers. The petitioner concludes that, because the production of mold equipment occurs abroad, the petitioning workers who repair this equipment domestically are import impacted.

The Department contacted a company official to verify whether a production of mold equipment occurs at the subject facility. The official stated that workers of the subject firm did not produce mold equipment during the relevant time period.

In order to establish import impact, the Department must consider imports that are like or directly competitive with those produced at the subject firm. The Department conducted a survey of the subject firm's major declining customer regarding their purchases of glass containers. The survey revealed that the declining customers did not increase their imports of glass containers during the relevant period.

Conclusion

After review of the application and investigative findings, I conclude that there has been no error or misinterpretation of the law or of the facts which would justify reconsideration of the Department of Labor's prior decision. Accordingly, the application is denied.

Signed at Washington, DC, this 22nd day of April 2005.
Elliott S. Kushner,
Certifying Officer, Division of Trade Adjustment Assistance.

[FR Doc. E5-2131 Filed 5-2-05; 8:45 am]

BILLING CODE 4510-30-P